DEPARTMENT OF HEALTH AND HUMAN SERVICES

Administration for Children and Families

Submission for Office of Management and Budget Review; Sexual Risk Avoidance Education (SRAE) National Evaluation Overarching Generic (New Collection)

AGENCY: Office of Planning, Research, and Evaluation, Administration for Children and Families, U.S. Department of Health and Human Services.

ACTION: Request for public comments.

SUMMARY: The Administration for Children and Families' (ACF) Office of Planning, Research, and Evaluation (OPRE) requests Office of Management and Budget (OMB) approval for an overarching generic clearance to collect data from programs delivered by Sexual Risk Avoidance Education (SRAE) grant recipients on behalf of the SRAE National Evaluation. The generic mechanism will allow ACF to rapidly respond to research and evaluation opportunities that would not otherwise be feasible under the timelines associated with the Paperwork Reduction Act of 1995. The opportunities may relate to innovative implementation strategies and program components in use by SRAE grant recipients as they arise, and in particular, for youth subpopulations served by grant recipients. The purpose of the data collections submitted under the generic will be to inform ACF programming by building evidence about what innovations work to improve programming and outcomes across the SRAE grant recipients and the youth they serve.

DATES: Comments due July 3, 2025. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION:

Description: Under the proposed umbrella generic, OPRE intends to conduct research and evaluation of innovative implementation strategies and program components used by SRAE grant recipients and in particular, for youth subpopulations served by grant recipients. There is not an extensive evidence base on SRAE programming to inform SRAE grant recipients' implementation and program improvement efforts. To add to this limited body of evidence and to support ACF's administration of the SRAE grant program, the SRAE National Evaluation includes data collection to identify strategies and components that have the potential to improve the delivery and/or quality of SRAE programming and to understand better how to meet the needs of the range of youth served by the programs. As the evaluation team identifies strategies that are ready for evaluation, the work will need to begin quickly so that the learnings can be disseminated back to SRAE grant recipients within the period of performance. Due to the need for this rapid decision making, OPRE is seeking approval for a generic clearance to conduct this research. Potential data collection efforts include conducting interviews with SRAE program staff, including front-line facilitators working directly with youth; staff from partner organizations that work with SRAE programs; brief exit tickets following individual program sessions, focus groups, and surveys of youth participating in SRAE programs; session logs completed by program facilitators after individual program sessions; and analysis plan and report templates that grant recipients can use to disseminate their own evaluation findings.

Under this generic clearance, information is meant to inform ACF activities and may be incorporated into documents or presentations that are made public such as through conference presentations, websites, or social media. The following are some examples of ways in which we may share information resulting from these data collections: technical assistance (TA) plans, webinars, presentations, infographics, issue briefs/reports, evaluation specific reports, or other documents relevant to the field, such as federal leadership and staff, grant recipients, local implementing agencies, researchers, and/or training/TA providers. In sharing findings, we will describe the study methods and limitations regarding generalizability and as a basis for policy.

Following standard OMB requirements, OPRE will submit an individual request for each specific data collection activity under this generic clearance. Each request will include the individual instrument(s), a justification specific to the individual information collection, and any supplementary documents. Example instruments are available upon request.

Respondents: Staff and administrators of SRAE programs; staff from partner organizations; current or former participants in SRAE programs; and grant recipients conducting their own evaluations.

Annual Burden Estimates

A variety of instruments and platforms will be used to collect information from respondents and each individual request will vary by number of respondents and average time per response. The burden table below is illustrative to provide an estimated maximum level of burden for this overarching generic. While we will not exceed the total burden cap for this generic without requesting a change for updates, we may use more or less burden within each instrument type. Each individual request under the generic will provide information specific to the burden for that request. This request to OMB includes the first proposed GenIC.

Example instruments | Number of respondents (total over request period) | Number of responses per respondent (total over request period) | Average burden per response (in hours) | Total burden (in hours) | Annual burden (in hours)
Youth survey | 2,160 | 3 | 0.5 | 3,240 | 1,080
Administrator, staff, and partner interview topic guide | 300 | 1 | 1.25 | 375 | 125
Youth focus group topic guide | 200 | 1 | 1 | 200 | 67
Youth exit ticket | 2,160 | 15 | 0.03 | 972 | 324
Facilitator Log | 36 | 30 | .03 | 32 | 11
Analysis plan for local impact local evaluations | 10 | 1 | 8 | 80 | 27
Analysis plan for local descriptive evaluations | 10 | 1 | 8 | 80 | 27
Report template for local impact local evaluations | 10 | 1 | 32 | 320 | 107
Report template for local descriptive evaluations | 10 | 1 | 32 | 320 | 107
GenIC #1: Youth survey for proof-of-concept study | 100 | 3 | 0.5 | 150 | 50

Estimated Total Annual Burden Hours: 1,925.

Authority: 42 U.S.C. 710.

Mary C. Jones,
ACF/OPRE Certifying Officer.

[FR Doc. 2025-10082 Filed 6-2-25; 8:45 am]

BILLING CODE 4184-83-P